DEPARTMENT OF HOMELAND SECURITY

Coast Guard

33 CFR Part 117

[Docket No. USCG-2017-0048]

Drawbridge Operation Regulation; Atlantic Beach Bridge, Reynolds Channel, Lawrence, NY

AGENCY: Coast Guard, DHS.

ACTION: Notice of deviation from drawbridge regulation.

SUMMARY: The Coast Guard has issued a temporary deviation from the operating schedule that governs the Atlantic Beach Bridge across Reynolds Channel, mile 0.4 at Lawrence, New York. This action is necessary to recoat the superstructure and reconstruct the double-leaf bascule spans in three sequential two month stages within six months. The deviation will allow the bridge to open only one bascule span at a time in order to provide passage for vessels that require an opening.

DATES: This deviation is effective from 12:01 a.m. on April 17, 2017 to 11:59 p.m. on October 13, 2017.

ADDRESSES: The docket for this deviation, USCG-2017-0048 is available at http://www.regulations.gov. Type the docket number in the “SEARCH” box and click “SEARCH”. Click on Open Docket Folder on the line associated with this deviation.

FOR FURTHER INFORMATION CONTACT: If you have questions on this temporary deviation, call or email James M. Moore, Bridge Management Specialist, First District Bridge Branch, U.S. Coast Guard; telephone 212-514-4334, email james.m.moore2@uscg.mil.

SUPPLEMENTARY INFORMATION: The Nassau County Bridge Authority, the owner of the bridge, requested a temporary deviation in order to facilitate reconstruction of the bascule leaves. The Atlantic Beach Bridge across Reynolds Channel, mile 0.4 at Lawrence, New York is a double-leaf bascule bridge offering mariners a vertical clearance of 25 feet at mean high water and 30 feet at mean low water in the closed position. Installation of a work platform underneath the bascule spans will reduce available vertical clearance in the closed position to 21.5 feet at mean high water. The existing drawbridge operating regulations are listed at 33 CFR 117.799(e).

The bridge generally opens four times per week allowing for routine passage of towing vessels with tank barges or dry cargo barges. The bulk of other vessel traffic is predominately recreational not requiring an opening in order to proceed through the draw.

The temporary deviation will allow the Atlantic Beach Bridge to open only one of the two bascule spans for bridge openings from 12:01 a.m. on April 17, 2017 to 11:59 p.m. on October 13, 2017.

Between April 17, 2017 and May 14, 2017 dual lift span operations will be permitted for commercial vessels and tug/barge units provided a 48 hour advance notice and 24 hour advance confirmation has been provided from 7 a.m. Monday through 6 p.m. Friday. Between April 17, 2017 and May 14, 2017, from 6 p.m. Friday through 7 a.m. Monday, dual bascule lift span operations will be offered for vessels requiring an opening every hour on the hour.

Between May 15, 2017 and October 13, 2017 single leaf bascule openings will be offered upon signal except that the draw need only be opened on the hour and half-hour between 4 p.m. and 7 p.m. Monday through Friday. Dual lift span operations will be permitted for commercial vessels and tug/barge units provided a 48 hour advance notice and 24 hour advance confirmation has been provided. Dual lift span operation will occur every hour on the hour and half-hour as needed on weekends from May 15, 2017 through October 13, 2017 from 7 p.m. Friday to 7 a.m. Monday in addition to Memorial Day, Independence Day (4th of July), and Labor Day.

Vessels that can pass under the bridge without an opening may do so at all times. The bridge will be able to open for emergencies and there is an alternate route for vessels unable to pass through the bridge when in the closed position.

The Coast Guard will also inform the users of the waterways through our Local and Broadcast Notices to Mariners of the change in operating schedule for the bridge so that vessel operators can arrange their transits to minimize any impact caused by this temporary deviation.

In accordance with 33 CFR 117.35(e), the drawbridge must return to its regular operating schedule immediately at the end of the effective period of this temporary deviation. This deviation from the operating regulations is authorized under 33 CFR 117.35.

Dated: March 31, 2017.
C.J. Bisignano,
Supervisory Bridge Management Specialist, First Coast Guard District.

[FR Doc. 2017-06817 Filed 4-5-17; 8:45 am]

BILLING CODE 9110-04-P